NUCLEAR REGULATORY COMMISSION

Licensing Support Network; Advisory Review Panel

AGENCY: Nuclear Regulatory Commission.

ACTION: Notice of public meeting.

SUMMARY: The Licensing Support Network Advisory Review Panel (LSNARP) will hold its next meeting on Wednesday, August 8, 2001, at the Crowne Plaza Hotel located at 4255 South Paradise Road, Las Vegas, Nevada 89109. The meeting will be open to the public pursuant to the Federal Advisory Committee Act (Pub. L. 94-463, 86 Stat. 770-776).

Agenda: The meeting will be held from 8:30 a.m. to 5:00 p.m. on Wednesday, August 8, 2001. The purpose of the meeting is to discuss issues concerning the design and operation of the Licensing Support Network (LSN). The LSN is an internet based electronic discovery database being developed to aid the NRC in complying with the schedule for decision on the construction authorization for the high-level waste repository contained in Section 114(d) of the Nuclear Waste Policy Act of 1982, as amended.

SUPPLEMENTARY INFORMATION: In 1998, the NRC Rules of Practice in 10 CFR Part 2, Subpart J, were modified to provide for the creation and operation of the LSN, an internet-based technological solution to the submission and management of records and documents relating to the licensing of a geologic repository for the disposal of high-level radioactive waste. (63 FR 71729.) Pursuant to 10 CFR 2.1011(d), the agency has chartered the LSNARP, an advisory committee that provides advice to the NRC on fundamental issues relating to LSN design, operation, maintenance, and compliance monitoring. At the August 8, 2001 LSNARP meeting, the principal topics will include discussion of the recent revisions to 10 CFR Part 2 (66 FR 29453-29467—May 31, 2001); discussion of LSNA guidance materials, functional requirements, etc. that were released June 13, 2001; demonstration of the LSN portal and software; a presentation of a technical scenario for a small participant system with some projections about what it will actually take to put “100 documents” on the web; and, any other items that DOE or other participants would like to put on the table.

FOR FURTHER INFORMATION CONTACT: U.S. Nuclear Regulatory Commission, Office of the Secretary, Mail Stop O-16 C1, Washington, DC 20555-0001; Attn: Andrew Bates (telephone 301-415-1963; e-mail ALB@NRC.GOV) or Atomic Safety and Licensing Board Panel, Mail Stop T-3 F23, Attn: Jack G. Whetstine (telephone 301-415-7391; e-mail JGW@NRC.GOV).

Public Participation: Interested persons may make oral presentations to the LSNARP or file written statements. An oral presentations request should be made to one of the contact persons listed above as far in advance as practicable so that appropriate arrangements can be made.

Dated: June 27, 2001.
Andrew L. Bates,
Advisory Committee Management Officer.

[FR Doc. 01-16653 Filed 7-2-01; 8:45 am]

BILLING CODE 7590-01-P